DEPARTMENT OF ENERGY

Federal Energy Regulatory Commission

Combined Notice of Filings # 1

October 15, 2008.

Take notice that the Commission received the following electric corporate filings:

Docket Numbers: EC09-6-000.

Applicants: MidAmerican Energy Holdings Company, Constellation Energy Group, Inc., Constellation Energy Holdings LLC.

Description: MidAmerican Energy Holdings Company, et al. submits a Joint Application for Authorizations under Section 203, Request for Waiver, and Request for Confidential Treatment and Expedited Treatment.

Filed Date: 10/14/2008.

Accession Number: 20081014-5295.

Comment Date: 5 p.m. Eastern Time on Tuesday, November 04, 2008.

Take notice that the Commission received the following electric rate filings:

Docket Numbers: ER03-552-011; ER03-984-009.

Applicants: New York Independent System Operator, Inc.

Description: Status Report of the New York Independent System Operator, Inc.

Filed Date: 10/15/2008.

Accession Number: 20081015-5042.

Comment Date: 5 p.m. Eastern Time on Wednesday, November 05, 2008.

Docket Numbers: ER06-1543-011.

Applicants: Brush Cogeneration Partners.

Description: Notification of Non-Material Change in Status of Brush Cogeneration Partners.

Filed Date: 10/14/2008.

Accession Number: 20081014-5296.

Comment Date: 5 p.m. Eastern Time on Tuesday, November 04, 2008.

Docket Numbers: ER08-1252-001.

Applicants: Midwest Independent Transmission System.

Description: Midwest Independent Transmission System Operator, Inc submits an amendment to its 7/11/08 filing of proposed revisions to its tariff.

Filed Date: 10/10/2008.

Accession Number: 20081014-0281.

Comment Date: 5 p.m. Eastern Time on Friday, October 31, 2008.

Docket Numbers: ER08-1256-001.

Applicants: Midwest Independent Transmission System.

Description: Midwest Independent Transmission System Operator, Inc submits an amendment to its 7/11/08 filing of proposed revisions to its tariff.

Filed Date: 10/10/2008.

Accession Number: 20081014-0280.

Comment Date: 5 p.m. Eastern Time on Friday, October 31, 2008.

Docket Numbers: ER08-1509-001.

Applicants: Burgess Capital LLC.

Description: Burgess Capital, LLC submits an amended petition for acceptance of initial tariff (FERC Electric Tariff, Original Volume 1), waivers and blanket authority.

Filed Date: 10/10/2008.

Accession Number: 20081014-0285.

Comment Date: 5 p.m. Eastern Time on Friday, October 31, 2008.

Docket Numbers: ER08-1558-001.

Applicants: Constellation Energy Commodities Group.

Description: Constellation Energy Commodities Group Inc submits a cost-based tariff in compliance with the October 1 Order.

Filed Date: 10/10/2008.

Accession Number: 20081014-0038.

Comment Date: 5 p.m. Eastern Time on Friday, October 31, 2008.

Docket Numbers: ER08-1562-001.

Applicants: TC Ravenswood, LLC.

Description: TC Ravenswood, LLC submits a supplement to the Notice of Succession submitted 9/22/08.

Filed Date: 10/10/2008.

Accession Number: 20081014-0093.

Comment Date: 5 p.m. Eastern Time on Friday, October 31, 2008.

Docket Numbers: ER08-1574-001.

Applicants: ORNI 18, LLC.

Description: ORNI 118, LLC submits an amendment to it application filed on 9/29/08.

Filed Date: 10/10/2008.

Accession Number: 20081014-0092.

Comment Date: 5 p.m. Eastern Time on Friday, October 31, 2008.

Docket Numbers: ER09-63-000.

Applicants: PJM Interconnection, L.L.C.

Description: PJM Interconnection, LLC submits a request for limited tariff waiver under ER09-63.

Filed Date: 10/10/2008.

Accession Number: 20081014-0091.

Comment Date: 5 p.m. Eastern Time on Friday, October 31, 2008.

Docket Numbers: ER09-64-000.

Applicants: Dynegy Mohave, LLC.

Description: Dynegy, Inc submits a notice of cancellation under ER09-64.

Filed Date: 10/14/2008.

Accession Number: 20081014-0279.

Comment Date: 5 p.m. Eastern Time on Tuesday, November 04, 2008.

Docket Numbers: ER09-65-000.

Applicants: Wabash Valley Power Association, Inc.

Description: Wabash Valley Power Association, Inc submits a supplement to its Rate Schedule filings.

Filed Date: 10/14/2008.

Accession Number: 20081014-0278.

Comment Date: 5 p.m. Eastern Time on Tuesday, November 04, 2008.

Docket Numbers: ER09-66-000.

Applicants: The Midwest Independent Transmission Sys.

Description: Midwest Independent Transmission System Operator, Inc submits a Small Generator Interconnection Agreement.

Filed Date: 10/14/2008.

Accession Number: 20081014-0277.

Comment Date: 5 p.m. Eastern Time on Tuesday, November 04, 2008.

Docket Numbers: ER09-67-000.

Applicants: Southern California Edison Company.

Description: Southern California Edison Co submits a Small Generator Interconnection Agreement etc.

Filed Date: 10/14/2008.

Accession Number: 20081014-0276.

Comment Date: 5 p.m. Eastern Time on Tuesday, November 04, 2008.

Take notice that the Commission received the following electric securities filings:

Docket Numbers: ES09-2-000.

Applicants: Oklahoma Gas and Electric Company.

Description: Oklahoma Gas and Electric Co submits an application for authority to issue short term debt securities in amounts not exceeding in the aggregate $800,000,000.

Filed Date: 10/10/2008.

Accession Number: 20081014-0284.

Comment Date: 5 p.m. Eastern Time on Friday, October 31, 2008.

Take notice that the Commission received the following open access transmission tariff filings:

Docket Numbers: OA08-25-001.

Applicants: Avista Corporation.

Description: Avista Corporation's Attachment K Compliance Filing. OA08-25-001.

Filed Date: 10/15/2008.

Accession Number: 20081015-5053.

Comment Date: 5 p.m. Eastern Time on Wednesday, November 05, 2008.

Docket Numbers: OA08-113-001; OA08-12-003.

Applicants: California Independent System Operator C.

Description: Compliance Filing with Order 890-B of the California Independent System Operator Corporation.

Filed Date: 10/03/2008.

Accession Number: 20081003-5073.

Comment Date: 5 p.m. Eastern Time on Friday, October 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-26186 Filed 11-3-08; 8:45 am]

BILLING CODE 6717-01-P